SECURITIES AND EXCHANGE COMMISSION

[Release No. 34-101524; File No. 4-443]

Joint Industry Plan; Notice of Filing and Immediate Effectiveness of Amendment to the Plan for the Purpose of Developing and Implementing Procedures Designed To Facilitate the Listing and Trading of Standardized Options To Make Technical Conforming Changes

November 6, 2024.

Pursuant to Section 11A(a)(3) of the Securities Exchange Act of 1934 (“Act”) ¹ and Rule 608 thereunder,² notice is hereby given that on October 17, 2024, MIAX Sapphire, LLC (“MIAX Sapphire”), Miami International Securities Exchange, LLC, MIAX PEARL, LLC, and MIAX Emerald, LLC filed with the Securities and Exchange Commission (“Commission”) an amendment to the Plan for the Purpose of Developing and Implementing Procedures Designed to Facilitate the Listing and Trading of Standardized Options (“OLPP” or “Plan”).³ The Commission approved the application of MIAX Sapphire to register as a national securities exchange on July 15, 2024.⁴ One of the conditions of the Commission's approval of MIAX Sapphire was the requirement for the exchange to join the OLPP.⁵ The previous amendment added MIAX Sapphire as a Plan Sponsor ⁶ of the OLPP.⁷ This amendment restores text inadvertently deleted or altered from the Plan as part of the prior amendment to add MIAX Sapphire as a Plan Sponsor. The Commission is publishing this notice to solicit comments on the amendment from interested persons.

¹ 15 U.S.C. 78k-1(a)(3).

² 17 CFR 242.608.

³ See Letter from Gregory P. Ziegler, Vice President, Senior Counsel, MIAX Sapphire, to Vanessa Countryman, Secretary, Commission, dated Oct 17, 2024. On July 6, 2001, the Commission approved the OLPP, which was proposed by the American Stock Exchange LLC (“Amex”) (n/k/a NYSE American, LLC (“NYSE American”)), Chicago Board Options Exchange, Incorporated (“Cboe”), International Securities Exchange LLC (“ISE”) (n/k/a Nasdaq ISE, LLC (“Nasdaq ISE”)), Options Clearing Corporation (“OCC”), Philadelphia Stock Exchange, Inc. (“Phlx”) (n/k/a Nasdaq Phlx LLC (Nasdaq Phlx)), and Pacific Exchange, Inc. (“PCX”) (n/k/a NYSE Arca, Inc. (“NYSE Arca”)). See Securities Exchange Act Release No. 44521, 66 FR 36809 (July 13, 2001). See also Securities Exchange Act Release Nos. 49199 (Feb. 5, 2004), 69 FR 7030 (Feb. 12, 2004) (adding Boston Stock Exchange, Inc. as a Sponsor to the OLPP); 57546 (Mar. 21, 2008), 73 FR 16393 (Mar. 27, 2008) (adding Nasdaq Stock Market, LLC (“Nasdaq”) as a Sponsor to the OLPP); 61528 (Feb. 17, 2010), 75 FR 8415 (Feb. 24, 2010) (adding BATS Exchange, Inc. (“BATS”) (n/k/a Cboe BZX Exchange, Inc. (“Cboe BZX”)) as a Sponsor to the OLPP); 63162 (Oct. 22, 2010), 75 FR 66401 (Oct. 28, 2010) (adding C2 Options Exchange Incorporated (“C2”) (n/k/a Cboe C2 Exchange, Inc. (“Cboe C2”)) as a sponsor to the OLPP); 66952 (May 9, 2012), 77 FR 28641 (May 15, 2012) (adding BOX Options Exchange LLC (“BOX”) as a Sponsor to the OLPP); 67327 (June 29, 2012), 77 FR 40125 (July 6, 2012) (adding Nasdaq OMX BX, Inc. (“BX”) (n/k/a Nasdaq BX, Inc. (“Nasdaq BX”)) as a Sponsor to the OLPP); 70765 (Oct. 28, 2013), 78 FR 65739 (Nov. 1, 2013) (adding Topaz Exchange, LLC as a Sponsor to the OLPP (“Topaz”) (n/k/a Nasdaq GEMX, LLC (“Nasdaq GEMX”); 70764 (Oct. 28, 2013), 78 FR 65733 (Nov. 1, 2013) (adding Miami International Securities Exchange, LLC (“MIAX”) as a Sponsor to the OLPP); 76822 (Jan. 1, 2016), 81 FR 1251 (Jan. 11, 2016) (adding EDGX Exchange, Inc. (“EDGX”) (n/k/a Cboe EDGX Exchange, Inc. (“Cboe EDGX”)) as a Sponsor to the OLPP); 77323 (Mar. 8, 2016), 81 FR 13433 (Mar. 14, 2016) (adding ISE Mercury, LLC (“ISE Mercury”) (n/k/a Nasdaq MRX, LLC (“Nasdaq MRX”)) as a Sponsor to the OLPP); 79897 (Jan. 30, 2017), 82 FR 9263 (Feb. 3, 2017) (adding MIAX PEARL, LLC (“MIAX PEARL”) as a Sponsor to the OLPP); 85228 (Mar. 1, 2019), 84 FR 8355 (Mar. 7, 2019) (adding MIAX Emerald, LLC (“MIAX Emerald”) as a Sponsor to the OLPP); 98388 (Sept. 14, 2023), 88 FR 64963 (Sept. 20, 2023) (adding MEMX LLC (“MEMX”) as a Sponsor to the OLPP); 100622 (July 31, 2024), 89 FR 64005 (Aug. 6, 2024) (adding MIAX Sapphire as a Sponsor to the OLPP).

⁴ See Securities and Exchange Act Release No. 100539 (July 15, 2024), 89 FR 58848 (July 19, 2024) (File No. 10-240) (order granting registration as a national securities exchange for MIAX Sapphire).

⁵ See id. at 58866.

⁶ A “Plan Sponsor” is an Eligible Exchange whose participation in the OLPP has become effective pursuant to Section 7 of the OLPP.

⁷ See Letter from Gregory P. Ziegler, Vice President, Senior Counsel, MIAX Sapphire, to Vanessa Countryman, Secretary, Commission, dated July 26, 2024.

I. Description and Purpose of the Amendment

The OLPP establishes procedures designed to facilitate the listing and trading of standardized options contracts on the options exchanges. The amendment to the OLPP restores text inadvertently deleted or altered from the Plan as part of the prior amendment to add MIAX Sapphire as a Plan Sponsor, which text was approved by the Commission in prior amendments to the Plan.

II. Effectiveness of the OLPP Amendment

The foregoing OLPP amendment has become effective pursuant to Rule 608(b)(3)(iii) ⁸ because it has been designated by the sponsors as involving solely technical or ministerial matters. At any time within sixty days of the filing of the amendment, the Commission may summarily abrogate the amendment and require that it be refiled pursuant to paragraph (a)(1) of Rule 608,⁹ if it appears to the Commission that such action is necessary or appropriate in the public interest, for the protection of investors, or the maintenance of fair and orderly markets, to remove impediments to, and perfect the mechanisms of, a national market system or otherwise in furtherance of the purposes of the Act.

⁸ 17 CFR 242.608(b)(3)(iii).

⁹ 17 CFR 242.608(a)(1).

III. Solicitation of Comments

Interested persons are invited to submit written data, views, and arguments concerning the foregoing, including whether the amendment is consistent with the Act and the rules thereunder. Comments may be submitted by any of the following methods:

Electronic Comments

• Use the Commission's internet comment form (https://www.sec.gov/rules/sro.shtml); or

• Send an email to rule-comments@sec.gov. Please include file number 4-443 on the subject line.

Paper Comments

• Send paper comments in triplicate to Secretary, Securities and Exchange Commission, 100 F Street NE, Washington, DC 20549-1090.

All submissions should refer to file number 4-443. This file number should be included on the subject line if email is used. To help the Commission process and review your comments more efficiently, please use only one method. The Commission will post all comments on the Commission's internet website (https://www.sec.gov/rules/sro.shtml). Copies of the submission, all subsequent amendments, all written statements with respect to the plan that are filed with the Commission, and all written communications relating to the plan between the Commission and any person, other than those that may be withheld from the public in accordance with the provisions of 5 U.S.C. 552, will be available for website viewing and printing in the Commission's Public Reference Room, 100 F Street NE, Washington, DC 20549, on official business days between the hours of 10 a.m. and 3 p.m. Copies of the filing also will be available for inspection and copying at the principal office of the exchanges. Do not include personal identifiable information in submissions; you should submit only information that you wish to make available publicly. We may redact in part or withhold entirely from publication submitted material that is obscene or subject to copyright protection. All submissions should refer to file number 4-443 and should be submitted on or before December 4, 2024.

For the Commission, by the Division of Trading and Markets, pursuant to delegated authority.¹⁰
¹⁰ 17 CFR 200.30-3(a)(85).
Sherry R. Haywood,
Assistant Secretary.

[FR Doc. 2024-26195 Filed 11-12-24; 8:45 am]

BILLING CODE 8011-01-P